DEPARTMENT OF VETERANS AFFAIRS

Notice of Performance Review Board Members

AGENCY: Corporate Senior Executive Management Office, Department of Veterans Affairs.

ACTION: Notice.

SUMMARY: Under provisions of law agencies are required to publish a notice in the Federal Register of the appointment of Performance Review Board (PRB) members. This notice announces the appointment of individuals to serve on the PRB of the Department of Veterans Affairs.

DATES: This notice is applicable October 31, 2017.

ADDRESSES: Corporate Senior Executive Management Office, Department of Veterans Affairs, 810 Vermont Avenue NW., Washington, DC 20420.

FOR FURTHER INFORMATION CONTACT: Contact Tia N. Butler, Executive Director, Corporate Senior Executive Management Office (052), Department of Veterans Affairs, 810 Vermont Avenue NW., Washington, DC 20420, (202) 461-7865.

SUPPLEMENTARY INFORMATION: The membership of the Department of Veterans Affairs Performance Review Board is as follows:

Wright Simpson, Vivieca (Chair)

Breyfogle, Cynthia

Hyduke, Barbara

Rivera, Fernando

Frueh, Michael

Rawls, Cheryl

Hipolit, Richard

Johnson, Harvey

Sullivan, Matthew

Hanson, Anita

Chandler, Richard

Skelly, Jonathan (Alternate)

MacDonald, Edna (Alternate)

Hogan, Michael (Alternate)

Powers, Glenn (Alternate)

The Secretary of Veterans Affairs, or designee, approved this document and authorized the undersigned to sign and submit the document to the Office of the Federal Register for publication electronically as an official document of the Department of Veterans Affairs. David J. Schulkin, Secretary of Veterans Affairs, Department of Veterans Affairs, approved this document on October 31, 2017, for publication.

Authority: 5 U.S.C. 4314(c)(4)

Dated:October 31, 2017.
Jeffrey Martin,
Office Program Manager, Office of Regulation Policy & Management, Office of the Secretary, Department of Veterans Affairs.

[FR Doc. 2017-24139 Filed 11-6-17; 8:45 am]

BILLING CODE 8320-01-P